DEPARTMENT OF JUSTICE

Antitrust Division

Notice Pursuant to the National Cooperative Research and Production Act of 1993—Members of SGIP 2.0, Inc.

Notice is hereby given that, on June 29, 2015, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, National Energy Technology Laboratory (NETL), Morgantown, WV; Open Geospatial Consortium (OGC), Wayland, MA; OMNETRIC Corp., Minnetonka, MN; National Instruments, Austin, TX; Opus One Solutions, Richmond Hill, Ontario, CANADA; ITOCHU Corporation, Tokyo, JAPAN; GridIntellect LLC, Madison, AL; Inman Technology, Cambridge, MA; Xtensible Solutions, Greenwood Village, CO; and Southern California Edison (SCE), Westminster, CA, have been added as parties to this venture.

Also, Kyocera Telecommunications Research Center (KTRC), Fremont, CA; The Associated General Contractors of America, Arlington, VA; RCES Center from Univ. of Texas at El Paso, El Paso, TX; Arizona Public Service Company, Phoenix, AZ; California Independent System Operator Corporation, Folsom, CA; CenterPoint Energy Houston Electric, Houston, TX; Clevest Solutions, Inc., Richmond, British Columbia, CANADA; Coordinated Science Laboratory—University of Illinois, Urbana, IL; HomePlug Powerline Alliance, Inc., Beaverton, OR; India Smart Grid Forum (ISGF), New Delhi, INDIA; Kottage Industries LLC, Worthington, OH; Mitsubishi Electric Research Labs, Cambridge, MA; MobiComm Communications, The Hague, NETHERLANDS; Telecommunications Industry Association (TIA), Arlington, VA; Tennessee Valley Authority, Chattanooga, TN; UPnP Forum, Beaverton, OR; ZIV USA INC., Rolling Meadows, IL; Climate Talk Alliance, San Ramon, CA; FutureDOS, Calgary, Alberta, CANADA; Duquesne Light Company, Pittsburgh, PA; Modbus Organization, Inc., Hopkinton, MA; Nexans, Bethel, CT; PowerGrid360, San Jose, CA; Washington Laboratories, Gaithersburg, MD; ComRent International, Upper Marlboro, MD; and City of Watertown, Watertown, WI, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on April 7, 2015. A notice was published in the Federal Register pursuant to Section 6(b) of the Act on May 14, 2015 (80 FR 27704).

Patricia A. Brink,
Director of Civil Enforcement, Antitrust Division.

[FR Doc. 2015-18580 Filed 7-28-15; 8:45 am]

BILLING CODE 4410-11-P